FEDERAL COMMUNICATIONS COMMISSION

[OMB 3060-1223]

Information Collection Approved by the Office of Management and Budget (OMB)

AGENCY: Federal Communications Commission.

ACTION: Notice.

SUMMARY: The Federal Communications Commission (FCC) has received Office of Management and Budget (OMB) approval for the following public information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Nicole Ongele, Office of the Managing Director, at (202) 418-2991, or email: Nicole.Ongele@fcc.gov.

SUPPLEMENTARY INFORMATION: OMB Control Number: 3060-1223.

OMB Approval Date: April 23, 2019.

OMB Expiration Date: April 30, 2022.

Title: Payment Instructions from the Eligible Entity Seeking Reimbursement from the TV Broadcaster Relocation Fund.

Form No.: FCC Form 1876.

Respondents: Business or other for-profit entities, Not for profit institutions and State, Local or Tribal Government.

Number of Respondents and Responses: 2,500 respondents; 2,500 responses.

Estimated Time per Response: 5 hours.

Frequency of Response: One-time reporting requirement.

Total Annual Burden: 12,500 hours.

Total Annual Cost: No Cost.

Obligation to Respond: Required to obtain or retain benefits. The statutory authority for this collection is contained in Middle Class Tax Relief and Job Creation Act of 2012, Public Law 112-96 (Spectrum Act) section 6403(a)(1) and Repack Airwaves Yielding Better Access for Users of Modern Services Act of 2018, Public Law 115-141, Div. P, (RAY BAUM'S Act) section 1452.

Privacy Act Impact Assessment: No impact(s).

Nature and Extent of Confidentiality: The information collection includes information identifying bank accounts and providing account and routing numbers to access those accounts. FCC considers that information to be records not routinely available for public inspection under 47 CFR 0.457, and exempt from disclosure under FOIA exemption 4 (5 U.S.C. 552(b)(4)).

Needs and Uses: The Spectrum Act requires the Commission to reimburse broadcast television licensees for costs “reasonably incurred” in relocating to new channels assigned in the repacking process and Multichannel Video Programming Distributors (MVPDs) for costs reasonably incurred in order to continue to carry the signals of stations relocating to new channels as a result of the repacking process or a winning reverse auction bid. RAY BAUM'S Act expands the program to include reimbursement to TV translator stations, low power TV stations, and FM radio stations. This information collection is necessary for eligible entities to instruct the Commission on how to pay the approved amounts the entities requested, and for the entities to make certifications that reduce the risk of waste, fraud, abuse and improper payments.

Federal Communications Commission.
Marlene Dortch,
Secretary, Office of the Secretary.

[FR Doc. 2019-11549 Filed 6-3-19; 8:45 am]

BILLING CODE 6712-01-P